NATIONAL COUNCIL ON DISABILITY

Sunshine Act Meetings

TIME AND DATES: The Members of the National Council on Disability (NCD) will hold a quarterly meeting on Thursday, July 26, 11 a.m.-5 p.m., ET; and on Friday, July 27, 2012, 9 a.m.-12 p.m., ET.

PLACE: The meeting will occur at the Access Board Conference Room, 1331 F Street NW., Suite 800, Washington, DC. Interested parties may join the meeting in person or may join by phone in a listening-only capacity (with the exception of the public comment period) using the following call-in number: 1-800-239-9838; passcode 1412617. If asked, the conference call leader's name is Aaron Bishop.

MATTERS TO BE CONSIDERED: The full agenda for this quarterly meeting will be posted to NCD's Web site. Highlights from the agenda include the following topics at the following times:

July 26, 2012

11:30 a.m.—Update from Andrew Imparato, Senior Counsel and Disability Policy Director for Senator Tom Harkin, on the Senator's Disability Employment Initiative;

12:15 p.m.—Presentation by NCD's ad hoc committee on subminimum wage, followed by discussion and vote;

4:30 p.m.—Public Comment

July 27, 2012

9 a.m.—Individuals with Disabilities Education Act presentation

11 a.m.—Public Comment

PUBLIC COMMENT: There will be two public comment periods—one on July 26, 2012, from 4:30-5 p.m., ET; and one on July 27, 2012, from 11-11:30 a.m., ET. While NCD will receive comments on any topic during these periods, NCD is particularly interested in hearing from the community regarding topics it believes should be included in its 2013 statutorily mandated Progress Report to the President and Congress. Any individuals interested in providing public comment may do so in-person or by phone and will be asked to provide their names and their organizational affiliations, if applicable, and to limit their comments to three minutes. Individuals may also provide public comment in writing to Lawrence Carter-Long, Public Affairs Specialist, at lcarterlong@ncd.gov, using the subject line of “Public Comment.”

CONTACT PERSON FOR MORE INFORMATION: Anne Sommers, NCD, 1331 F Street NW., Suite 850, Washington, DC 20004; 202-272-2004 (V), 202-272-2074 (TTY).

ACCOMMODATIONS: Those who plan to attend and require accommodations should notify NCD as soon as possible to allow time to make arrangements.

Dated: July 10, 2012.
Joan Durocher,
General Counsel & Director of Policy.

[FR Doc. 2012-17119 Filed 7-10-12; 4:15 pm]

BILLING CODE 6820-MA-P